DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of March and April 2004.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a)(2)(B)(II.B) (no shift in production to a foreign country) have not been met.

TA-W-54,448; Methode Electronics, Inc., Automotive Electronic Controls Div., Golden, IL

TA-W-53,924; National Carbide Die, McKeesport, PA

TA-W-54,326; Knowles Electronics LLC, Elgin, IL

TA-W-54,379; Carolina Rubber Rolls, Greenville, SC

TA-W-54,412; Scovill Fasteners, Inc., a div. of GSC Partners, Clarkesville, GA

TA-W-54,367; Holophane, Acuity Lighting Corp., Newark, OH

TA-W-54,265; Rainbow Displays, Inc., Endicott, NY

TA-W-54,305; Loger Industries, Lake City, PA

TA-W-54,271; Data Industrial Corp., a div. of Badger Meter, Inc., Mattapoisett, MA

TA-W-54,355; Falls Mold & Die, Inc., Stow, OH

TA-W-54,133; Peavey Electronics Plant 3, Meridian, MS

TA-W-53,962; Wagner Plastics, Inc., Clinton, MA

TA-W-54,459; Webster Industries, Inc., Dimension Plant, Banger, WI

TA-W-54,545; Control Tech, Inc., Hickory, NC

TA-W-54,370; Parker Hosiery, For Payne, AL

TA-W-54,372; Watts Regulator, Webster Valve Div., a subsidiary of Watts Water Technologies, Inc., including leased workers from Labor Ready, Manpower, Inc., and Central New Hampshire Employment Agency, Franklin, NH

TA-W-54,282; Unifrax Corp., Corporate Headquarters, Niagara Falls, NY, A; Tonawanda Manufacturing Facility, Tonawanda, NY, B; Amherst Manufacturing Facility, Amherst, NY, C; New Carlisle Indiana Manufacturing Facility, New Carlisle, IN

TA-W-54,446; MPI, Inc., Poughkeepsie, NY

TA-W-54,170; Hunter Corp., Portage, IN

TA-W-54,394; Magna Donnelly Corp., Holland Windows North, a subsidiary of Magna International, Inc., Holland, MI

TA-W-54,517; Tubafor Mill, Inc., Crane Creek Div., Amanda Park, WA

TA-W-54,118; Regal Plastics Co., including leased workers from JLI, Inc., Owosso, MI

TA-W-54,279; Rockbestos Surprenant Cable Corp., a div. of Marmon Wire and Cable Group, LLC, Clinton, MA

TA-W-54,349; Famillie Printing Co., Inc., Spartanburg, SC

TA-W-54,577; Jantek Industries, LLC, Medford, NJ

TA-W-54,409; Rouge Steel Co., Dearborn, MI

TA-W-54,139; A.D. Joslin Mfg. Company, a div. of Cosco Industries, Inc., Manistee, MI

TA-W-54,234; BASF Corp., Coatings Div., Morganton, NC

TA-W-54,200; Sanmina-SCI, Richardson, TX

TA-W-54,241; Siemens Dematic, Distribution and Industry Div., Grand Rapids, MI

TA-W-54,361; Kimberly Clark Corp., Kimtech Plant, Neenah, WI

TA-W-54,344; Screw Machine Specialties, Inc., Grand Haven, MI

TA-W-54,310; Intermet Havana Foundry, a div. of Intermet, Havana, IL

TA-W-54,385; TSS Dupont Holding, Inc., Providence, RI

TA-W-54,439; Sem-Pak Crop., T/A Meyer Packaging, including leased workers of Uni-Temp, Palmyra, PA

TA-W-54,469; St. John Knits, Inc., Van Nuys, CA

TA-W-54,438; Reichhold, Inc., Bridgeville, PA

TA-W-54,403; Missota Paper Co. LLC, Brainerd, MN

TA-W-54,371; Boston Gear, Div. of Colfax Corp., Louisburg, NC: Workers engaged in the assembly of speed reducers are denied eligibility to apply for adjustment assistance under section 223 of the Trade Act of 1974.

TA-W-54,151; Haworth, Inc., Comforto Div., including leased workers of Lincolnton Staffing and Kelly Services Lincolnton, NC: “Workers of Haworth, Inc., Comforto Div., including leased workers of Lincolnton Staffing and Kelley Services, Lincolnton, NC, engaged in the assembly of office seating products are denied eligibility to apply for adjustment assistance under section 223 of the Trade Act of 1974.

The workers firm does not produce an article as required for certification under Section 222 of the Trade Act of 1974.

TA-W-54,087; System Sensor “ El Paso Warehouse, a div. of Honeywell International, El Paso, TX

TA-W-54,316; Optoplast USA, Inc., Pittsburgh, PA

TA-W-54,447; ICT Group, Telemarketing, Bunham, PA

The investigation revealed that criterion (a)(2)(A)(I.A) (no employment decline) has not been met.

TA-W-54,269; Accuride Corp., Henderson Operations, Henderson, KY

TA-W-54,474; Osram Sylvania, Inc., General Lighting Div., St. Marys, PA

TA-W-54,511; Wausau Papers of New Hampshire, Printing and Writing Group, a subsidiary of Wausau Masinee, Groveton, NH

TA-W-54,227; Glenshaw Glass Co., Glenshaw, PA

TA-W-54,351 & A; I/N Tek, a subsidiary of Ispat International NV and Nippon Steel, New Carlisle, IN and New Carlisle, IN

TA-W-54,274; The Boeing Company, Wichita Development and Modification Center, Integrated Defense Systems, Wichita, KS

The investigation revealed that criteria (2) has not been met. The workers firm (or subdivision) is not a supplier or downstream producer to trade-affected companies.

TA-W-54,479; SCA Packaging, f/k/a Tuscarora, Inc., Streator, IL

The investigation revealed that criteria (a)(2)(A)(I.B) (Sales or production, or both, did not decline) and (a)(2)(B)(II.B) (has shifted production to a county not under the free trade agreement with U.S.) have not been met.

A-W-54,656; Eljer Plumbingware, Inc., Ford City, PA

TA-W-54,336; Resolite, a div. of Stabilit America, Inc., Zelienople, PA

Affirmative Determinations for Worker Adjustment Assistance

The following certifications have been issued; the date following the company name and location of each determination references the impact date for all workers of such determination.

The following certifications have been issued. The requirements of (a)(2)(A) (increased imports) of section 222 have been met.

TA-W-54,419; U.S. Forest Industries, Inc., Financial Office, Lisle, IL: March 3, 2003.

TA-W-54,461; Ramtex Sales Corp., a subsidiary of Ramtex, Inc., New York, NY: February 26, 2003.

TA-W-54,480; Ma's Manufacturing, Inc., San Francisco, CA: March 2, 2003.

TA-W-54,496; Kilgore Knitting, Inc., Fyffe, AL: March 11, 2003.

TA-W-54,334; Simonds International Corp., File Div., Newcomerstown, OH: February 13, 2003.

TA-W-54,313; Pinnacle Frames and Accents, Inc., Wood Div., formerly known as Tandycrafts, Inc., Piggott, AR: February 10, 2003.

TA-W-54,216; Keystone Consolidated Industries, Inc., Keystone Steel and Wire Div., Peoria, IL: February 4, 2003.

TA-W-54,541; IHI Turbo America, Shelbyville, IL: March 9, 2003.

TA-W-54,417; Repak, a div. of Prewett Hosiery Sales Corp., Fort Payne, AL: February 26, 2003.

TA-W-54,373; Eagle Tool Co., Dyersville, IA: February 25, 2003.

TA-W-54,134; Woodstock Percussion, Shokan, NY: January 20, 2003.

TA-W-54,285; ASARCO, Inc., Salt Lake City, UT: February 21, 2004.

TA-W-54,332; Springs Industries, Inc., Bedding Div., Lyman Finishing Plant, Lyman, SC: February 12, 2003.

TA-W-54,306; Crowntex, Inc., Wrightsville, GA: December 1, 2002.

TA-W-54,255; Imperial Schrade Corp., Ellenville, NY: February 2, 2003.

TA-W-54,244; Southland Hosiery Co., Thomasville, NC: February 4, 2003.

TA-W-54,415; MCS Industries, Somerset, NJ: March 2, 2003.

TA-W-54,314 & A; The Production Department, Confluence, PA and Gateway Sportswear Corp., a subsidiary of The Production Department, Confluence, PA: February 11, 2003.

TA-W-54,223; Ultra Tool/Grantsburg LLC, Grantsburg, WI: February 9, 2003.

TA-W-54,345; NED Corp., Worcester, MA: February 12, 2003.

TA-W-54,429; Decorize, Inc., Springfield, MO: March 3, 2003.

TA-W-54,428; VF Playwear, Greensboro, NC: March 3, 2003.

TA-W-54,339; Active Wear, Inc., Martinsville, VA: February 17, 2003.

TA-W-54,556; Paragon Glass Works, Inc., Lewiston, ME: March 18, 2003.

TA-W-54,399 & A; Western Geco Resources, Inc., Anchorage, AK and Deadhorse, AK: February 17, 2003.

TA-W-54,460; Ertex Knitting Co., Inc., Paterson, NJ: March 9, 2003.

TA-W-54,482; Umicore Optical Materials USA, Inc., Quapaw, OK: March 10, 2003.

TA-W-54,357; Solutia, Inc., Trenton, MI: January 26, 2003.

TA-W-54,360; Acme Packaging Corp., ITW Packaging Systems Div., New Britain, CT: February 23, 2003.

TA-W-54,528; Cerro Fabricated Products, Inc., Main Plant, a former div. of Cerro Metal Products, Brave, PA: March 16, 2003.

TA-W-54,405; Avondale Mills, Inc., Burnsville, NC: March 1, 2003.

TA-W-54,457; Protopac, Inc., Electronics Div., Watertown, CT: March 8, 2003.

TA-W-54,458; Rowe Pottery Works, Cambridge, WI: March 9, 2003.

TA-W-54,376; Lisbon Textile Prints, Inc., Lisbon, CT: February 5, 2003.

TA-W-54,384; Keeler Die Cast, Truth Hardware Div., including leased workers of RCM Technologies, Aerotek Commercial Staffing, Grand Rapids, MI: February 27, 2003.

TA-W-54,352; Presto Products Co., Weyauwega Facility, a div. of Alcoa Consumer Products, Weyauwega, WI: February 20, 2003.

TA-W-54,346; Meadwestvaco Corp., Forestry Div., Maine Region, Rumford, ME: February 9, 2003.

TA-W-54,539; Connor Carving & Turning Co., Inc., Thomasville, NC: March 17, 2003.

TA-W-54,583; Pasadena Paper Co., LP, Pasadena, TX: March 1, 2003.

TA-W-54,173; Lauri Toys, Inc., Avon, ME: January 26, 2003.

TA-W-54,302; Crescent, Inc., Niota, TN: January 23, 2003.

TA-W-54,503; Amesbury Group, Inc., Textile Div., Statesville, NC: February 24, 2003.

TA-W-54,325; S.K. Williams Co., including leased workers from Seek, Cornwall, Staffing, Inc., and Instant Help, Wauwatosa, WI: February 18, 2003.

TA-W-054,481; Sierra Pacific Industries, Susanville, CA: March 1, 2003.

TA-W-54,488; Fort Smith Rim & Bow Co., Fort Smith, AR: March 11, 2003.

TA-W-54,215 & A, B; Taylor Togs, Inc., Bakersville, NC, Taylorsville, NC and Micaville, NC: February 4, 2003.

TA-W-54,174; AEI Acquisitions, LLC., d/b/a Nexpak, Tucson, AZ: January 29, 2003.

TA-W-54,070 & A; Magruder Color Co., Inc., Bridgeview Div., Bridgeview, IL and Indol Carteret Div., Carteret, NJ: January 22, 2003.

TA-W-54,523; Camdett Corp., Camden, NJ: March 16, 2003.

TA-W-54,342; Aluminum Foundries, Inc., Winchester, IN: February 18, 2003.

TA-W-54,422; Golden Star, Inc., Atchison, KS: March 2, 2003.

TA-W-54,304; F.E. Wood and Sons, Inc., East Baldwin, ME: January 28, 2003.

TA-W-54,177; Amcast Industrial Corp., Richmond Indiana Plant, Richmond, IN: December 17, 2003.

TA-W-54,204; Missouri Steel Castings, including leased workers from Skillstaff, Employer Advantage and Moresource, Inc., Joplin, MO: February 5, 2003.

TA-W-54,433; Night Fashion, Inc., Los Angeles, CA: February 26, 2003.

TA-W-54,281; Chami Design, Inc., Tacoma, WA: February 12, 2003.

TA-W-54,295 & A, B, C; Sure Fit, Inc., (Marcon Blvd Facility), including leased workers of Centrix Human Resources, General Temp Labor, CK Hobbie, Inc., AA Staffing, People Unlimited, ITH Staffing, and HTSS, Allentown, PA, (Industrial Blvd Facility), Allentown, Boulder Drive Facility, Breingsville, PA and New York, NY: February 16, 2003.

TA-W-54,203 & A, B; Coats American, Inc., Watertown, CT, Bronx, NY and Charlotte, NC: February 3, 2003.

TA-W-54,165; Goodman Equipment Corp., Bedford Park, IL: February 3, 2003.

TA-W-54,242; Badger Paper Mills, Inc., Preshtigo, WI: February 9, 2003.

TA-W-54,531; Bose Corp., including leased workers of Manpower, Hillsdale, MI: April 17, 2004.

TA-W-54,667; Terra Nitrogen Corp., a subsidiary of Terra Industries, Inc., Blytheville, AR: April 2, 2003.

TA-W-54,497; Trek Bicycle Corp., including leased workers of Diversified Personnel Services, Whitewater, WI: March 11, 2003.

TA-W-54,037; Micaro Med Machining, d/b/a UTI Corp., Miramar, FL: January 12, 2003.

TA-W-54,388; Reeves International, Inc., Breyer Div., Wayne, NJ: February 27, 2003.

TA-W-54,109; Lakeshore Diversified Products, Spring Lake, MI: January 23, 2003.

TA-W-54,095; Kerr McGee Chemical, LLC, Electrolytic Div., Henderson, NE: January 12, 2003.

TA-W-54,062; Whitener Hosiery and Finishing Co., Inc., Hickory, NC: January 21, 2003.

TA-W-54,016; Doncasters, Inc., New England Airfoil Products Div., Farmington, CT: January 10, 2003.

TA-W-54,252; Central Coating and Assembly, Inc., a subsidiary of Hitachi Metals America, Mt. Pleasant, MI: February 10, 2003.

TA-W-54,049; Ingersoll-Rand/Blaw-Knox, Mattoon, IL: January 15, 2003.

TA-W-54,134; Woodstock Percussion, Shokan, NY: January 20, 2003.

TA-W-54,266; D.A. Stuart Co., Workers at National Steel, Great Lakes Operation, Ecorse, MI: February 5, 2003.

TA-W-54,371; Boston Gear, div. of Colfx Corp., Louisburg, NC: “All workers engaged in the production of speed reducer components who became totally or partially separated from employment on or after February 20, 2003 are eligible to apply for adjustment assistance.”

The following certifications have been issued. The requirements of (a)(2)(B) (shift in production) of section 222 have been met.

TA-W-54,513; Finch Fabricating and Plating, Inc., Thomasville, NC: March 9, 2003.

TA-W-54,363; Tru Mold Shoes, Inc., Buffalo, NY: February 20, 2003.

TA-W-54,397; Ludlow Fibc, a div. of Ludlow Coating Products, Opa Locka, FL: February 20, 2003.

TA-W-54,490; Parker-Hannifin Corp., CSD Commercial Div. including leased workers of Manpower, Ogden, UT: “ All workers engaged in the production of flight control actuators and components, who became totally or partially separated from employment on or after March 4, 2003.”

TA-W-54,510; San Francisco City Lights, Inc., San Francisco, CA: March 8, 2003.

TA-W-54,219; Morse Automotive, Shoe Assembly Department, Cartersville, GA: February 6, 2003.

TA-W-54,430; Bow Industrial Corp., Plattsburgh, NY: March 4, 2003.

TA-W-54,472; Alcatel USA Resources, Inc. Wireless Switching Div., Plano, TX: February 28, 2003.

TA-W-54,475; Dialight Corp., including leased workers of Penmac, Roxboro, NC: November 4, 2002.

TA-W-54,535; Tyco Electronics, Computer Communications and Consumer Electronics Div., Elcon Power Connector Products Group, Manufacturing Div., a subsidiary of Tyco International, Menlo Park, CA: January 4, 2003.

TA-W-54,504; SR Telecom, Redmond, WA: March 15, 2003.

TA-W-54,499; Federal Mogul Corporation, Ignition Products Div., Burlington, IA: March 5, 2003.

TA-W-54,246; Assurance Manufacturing, Inc., Formerly Known as Model Engineering, including leased workers from Atlas Staffing, Inc., Minneapolis, MN: February 11, 2003.

TA-W-54,286; Surratt Hosiery Mills, Inc., Denton, NC: March 12, 2003.

TA-W-54,211; Intercraft Co., Inc., a div. of Burnes Group, Taylor, TX: February 1, 2003.

TA-W-54,449; Bardy Corp., formerly Prinzing Enterprises, Inc., Including leased workers of Manpower International, Warrenville, IL: March 8, 2003.

TA-W-54,354; Arvesta Corp., Perry Div., Perry, OH: February 17, 2003.

TA-W-54,335; Fiber Industries, Inc., a subsidiary of Wellman, Inc., including leased workers of Pinnacle Staffing and BE&K, Charlotte, NC: February 10, 2003.

TA-W-54,538; Yorkshire Americas, Inc., Greensville, SC: March 17, 2003.

TA-W-54,615; PPG Industries, Inc., Automotive Glass Div., including leased workers of Affiliated Building Services, Berea, KY: March 23, 2003.

TA-W-54,348; Werner Co., Anniston, AL: February 18, 2003.

TA-W-54,390; Gul Technologies, Raleigh, NC: March 1, 2003.

TA-W-54,407; CFM U.S. Corp., Huntington, IN: March 2, 2003.

TA-W-54,420; Consolidated Fabricators, Inc., a subsidiary of Global Power Equipment Group, including leased workers of The Agentry and Express Personnel Services, Auburn, MA: February 23, 2003.

TA-W-54,493; Burle Industries, Inc., Lancaster, PA: March 9, 2003.

TA-W-54,573; TI Automotive Systems, Warren, MI: March 23, 2003.

TA-W-54,608; Medsource Technologies, Inc., Newton, MA: March 22, 2003, TA-W-54,671; Steelcase, Inc., New Paris, IN: April 5, 2003.

TA-W-54,567 & A; Artisans, Inc., Glen Flora, WI and Wausau, WI: March 19, 2003.

TA-W-54,423; Takata Restraint Systems, Inc., a wholly owned subsidiary of TK Holdings, Inc., Cheraw Plant, Cheraw, SC: March 2, 2003.

TA-W-54,324; National Lamination Co., Des Plaines, IL: February 13, 2003.

TA-W-54,364; Sandlapper Fabrics, Inc., Danbury, CT: February 25, 2003.

TA-W-54,543; Georgia Pacific, Consumer Products Div., Sandusky, OH: March 10, 2003.

TA-W-54,584; William M. Best Consulting Services, Workers at Gates Corp., Air Springs Div., Denver, CO: March 24, 2003.

TA-W-54,530; Quality Consulting and Inspection Services, Inc., Workers at Gates Corp., Air Springs Div., Denver, CO: March 15, 2003.

TA-W-54,404; Plains Cotton Cooperative Association, New Braunfels, TX: February 25, 2003.

TA-W-54,456; Tyco Electronics/Outside Plant, Protection Products Div., including leased workers of Manpower Temporary Services, Fuquay-Varina, NC: March 8, 2003.

TA-W-54,464; GL&V USA, Inc., Western Regional Div., a subsidiary of FL&V, Inc., Vancouver, WA: March 8, 2003.

TA-W-54,358; Aero-Motive Co., Kalamazoo, MI: February 17, 2003.

TA-W-54,492; Regal Manufacturing Co., Inc., Hickory, NC: March 8, 2003.

TA-W-54,276; Adams Business Forms, a div. of Cardinal Brands, Inc., Topeka, KS: February 13, 2003.

TA-W-54,201; Avent, Inc., Div. of Kimberly-Clark Corp., Haltom City, TX: February 2, 2003.

TA-W-54,315; Universal Stainless, Inc., a subsidiary of Leggett & Platt, Inc., including leased workers of Chase Staffing and Riviera Finance, Pineville, NC: February 10, 2003.

TA-W-54,454; J.J. Mae, Inc., d/b/a Rainbeau, San Francisco, CA: March 5, 2003.

TA-W-54,486; Pasminco Clinch Valley Mine, Thorn Hill, TN: March 11, 2003.

TA-W-54,380; Senior Operations, Inc., Senior Flexonics Pathway Div., Oak Ridge Site, Oak Ridge, TN: February 26, 2003.

TA-W-54,231; 411 Warehouse Corp., a subsidiary of Arnav Industries, Inc., Madisonville, TN: September 11, 2003.

TA-W-54,290; Rubbermaid Cleaning, a div. of Rubbermaid Commercial Products, a div. of Newell-Rubbermaid, including leased workers of Kelly Services and Action Staffing Group, Greenville, NC: February 16, 2003.

TA-W-54,443; Bloomsburg Mills, Inc., including leased workers of One Course Staffing Solutions, Bloomsburg, PA: March 22, 2004.

TA-W-54,450; Dekko Engineering, Lucas, IA: March 8, 2003.

TA-W-54,237; Steelcase, Inc., Wood Div., Fletcher, NC: February 6, 2003.

TA-W-54,127; Mid Atlantic of West Virginia, Ellenboro, WV: January 26, 2003.

TA-W-54,466; Worth, LLC, including leased workers of Staffing Solutions, Tullahoma, TN: February 19, 2003.

TA-W-54,233; Marko Products, Inc., d/b/a Marko Foam Products, Inc., Corona Div., including leased workers of Adecco, Remedy, Manpower and Corestaff, Corona, CA, A; Hayward Div., Hayward, CA and B; Machining Div., Corona, CA: January 28, 2003.

TA-W-54,284; Pechiney Plastic Packaging, Inc., Cebal America's Div., Washington, NJ: February 5, 2003.

TA-W-54,178; Drexel Heritage Furniture Industries, Plant 2, Marion, NC: January 30, 2003.

TA-W-54,250; Valeo, Inc., Transmission Div., Hampton, VA: January 30, 2003.

TA-W-54,288; Hedstrom Corp., Ball, Bounce and Sport Div., Plant #1, Ashland, OH: February 10, 2003.

TA-W-54,362; Bose Corp., Blythewood, SC: February 24, 2003.

TA-W-54,138; Wentworth Corp., d/b/a Liberty Textiles, Eden, NC: December 5, 2002.

TA-W-54,340; IMI Norgren, Inc., Littleton Div., 73,74 Cost Center, Littleton, CO: February 19, 2003.

TA-W-54,209; Waterloo Industries, Inc., Muskogee, Oklahoma Div., including leased workers of Quality Staffing, Muskogee, OK: February 4, 2003.

TA-W-54,136; El Financiero International, Inc., Los Angeles, CA: January 22, 2003.

TA-W-54,224; Consolidated Ventura Telephones, Tucson, AZ: February 6, 2003.

TA-W-54,437; Parker Seal, Engineered Seals Div., Lebanon, TN: February 23, 2003.

TA-W-54,426; Littelfuse, Inc., Powr-Gard Div., including leased workers of Innovative Staff Solutions, Arcola, IL: February 27, 2003.

TA-W-54,500; Jakel, Inc., Highland, IL: March 12, 2003.

TA-W-54,529; Federal Mogul Corp., Bearings-St.Johns Div., St. Johns, MI: March 15, 2003.

TA-W-54,190; ISA Breeders, Inc., d/b/a ISA Babcock/Babcock, Office and Hatchery, Ithaca, NY, A; Farm 2, Trumansburg, NY, B; Farm 4, Ithaca, NY, C; Farm 5, Ithaca, NY, D; Maintenance Delivery and Farm 7, Ithaca, NY, E; Poultry Health Lab, Ithaca, NY: February 4, 2003.

TA-W-54,259; Leviton Manufacturing, lighting Control Div., Tualtin, OR: February 2, 2003.

TA-W-54,151; Haworth, Inc., Comforto Div., including leased workers of Lincolnton Staffing and Kelley Services, Lincolnton, NC, engaged in the production of office seating components who became totally or partially separated from employment on or after January 29, 2003.

The following certification has been issued. The requirement of upstream supplier to a trade certified primary firm has been met.

TA-W-54,494; Jones and Vining, Inc., Lewiston, ME: March 10, 2003.

TA-W-54,498; North Manchester Foundry, North Manchester, IN: February 23, 2003.

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)3)ii) have not been met for the reasons specified.

The Department as determined that criterion (1) of section 246 has not been met. Workers at the firm are 50 years of age or older.

TA-W-54,266; D.A. Stuart Co., workers at National Steel, Great Lakes Operation, Ecorse, MI

TA-W-54,259; Leviton Manufacturing, Lighting Control Div., Tualtin, OR:

The Department as determined that criterion (3) of section 246 has not been met. The competitive conditions within the workers' industry is adverse.

TA-W-54,134; Woodstock Percussion, Shokan, NY

TA-W-54,190; ISA Breeders, Inc., d/b/a ISA Babcock/Babcock, Office and Hatchery, Ithaca, NY, A; Farm 2, Trumansburg, NY, B; Farm 4, Ithaca, NY, C; Farm 5, Ithaca, NY, D; Maintenance, Delivery and Farm 7, Ithaca, NY and E; Poultry Health Lab, Ithaca, NY

The Department as determined that criterion (2) of section 246 has not been met. Workers at the firm possess skills that are easily transferable.

TA-W-53,498; North Manchester Foundry, North Manchester, In.

TA-W-54,049; Ingersoll-Rand/Blaw-Knox, Mattoon, IL

TA-W-54,252; Central Coating and Assembly, Inc., a subsidiary of Hitachi Metals America, Mt. Pleasant, MI

TA-W-54,016; Doncasters, Inc., New England Airfoil Products Div., Farmington, CT

TA-W-54,062; Whitener Hosiery and Finishing Co., Inc., Hickory, NC

TA-W-54,095; Kerr McGee Chemical, LLC, Electrolytic Division, Henderson, NV

TA-W-54,109; Lakeshore Diversified Products, Spring Lake, MI

TA-W-54,388; Reeves International, Inc., Breyer Division, Wayne, NJ

TA-W-54,037; Micro Med Machining, d/b/a UTI Corp., Miramar, FL

TA-W-54,497; Trek Bicycle Corp., including leased workers of Diversified Personnel Services, Whitewater, WI

TA-W-54,667; Terra Nitrogen Corp., a subsidiary of Terra Industries, Inc., Blytheville, AR

TA-W-54,531; Bose Corp., including leased workers of Manpower, Hillsdale, MI

TA-W-54,242; Badger Paper Mills, Inc., Preshtigo, WI

TA-W-54,500; Jakel, Inc., Highland, IL

TA-W-54,529; Federal Mogul Corp., Bearings-St.Johns Div., St. Johns, MI

TA-W-54,426; Littelfuse, Inc., Powr-gard Div., including leased workers of Innovative Staff Solutions, Arcola, IL

TA-W-54,437; Parker Seal, Engineered Seals Div., Lebanon, TN

TA-W-54,224; Consolidated Ventura Telephones, Tucson, AZ

TA-W-54,136; El Financiero International, Inc., Los Angeles, CA

TA-W-54,209; Waterloo Industries, Inc., Muskogee, Oklahoma Div., including leased workers of Quality Staffing, Muskogee, OK

TA-W-54,340; IMI Norgren, Inc., Littleton Div., 73, 74 Cost Center, Littleton, CO

TA-W-54,138; Wentworth Corp., d/b/a Liberty Textiles, Eden, NC

TA-W-54,362; Bose Corp., Blythewood, SC

TA-W-54,288; Hedstrom Corp., Ball, Bounce and Sport Div., Plant #1, Ashland, OH

TA-W-54,250; Valeo, Inc., Transmission Div., Hampton, VA

TA-W-54,178; Drexel Heritage Furniture Industries, Plant 2, Marion, NC

TA-W-54,284; Pechiney Plastic Packaging, Inc., Cebal America's Div., Washington, NJ

TA-W-54,233; Marko Products, Inc., d/b/a Marko Foam Products, Inc., Corona Div., including leased workers of Adecco, Remedy, Manpower and Corestaff, Corona, CA, A; Hayward Div., Hayward, CA and B; Machining Div., Corona, CA

TA-W-54,466; Worth, LLC, including leased workers of Staffing Solutions, Tullahoma, TN

Since the workers are denied eligibility to apply for ATAA, the workers cannot be certified eligible for ATAA.

TA-W-54,394; Magna Donnelly Corp., Holland Windows North, a subsidiary of Magna International, Inc., Holland, MI

TA-W-54,446; MPI, Inc., Poughkeepsie, NY

TA-W-54,517; Tubafor Mill, Inc., Crane Creek Div., Amanda Park, WA

TA-W-54,170; Hunter Corp., Portage, IN

TA-W-54,118; Regal Plastics Co., including leased workers from JLI, Inc., Owosso, MI

TA-W-54,279; Rockbestos Surprenant Cable Corp., a div. of Marmon Wire and Cable Group, LLC, Clinton, MA

TA-W-54,479; SCA Packaging, f/k/a Tuscarora, Inc., Streator, IL

TA-W-54,349; Famillie Printing Co., Inc., Spartanburg, SC

TA-W-54,577; Jantek Industries, LLC, Medford, NJ

TA-W-54,409; Rouge Steel Co., Dearborn, MI

TA-W-54,139; A.D. Joslin Mfg, Company, a div. of Cosco Industries, Inc., Manistee, MI

TA-W-54,234; BASF Corp., Coatings Div., Morganton, NC

TA-W-54,227; Glenshaw Glass Co., Glenshaw, PA

TA-W-54,200; Sanmina-SCI, Richardson, TX

TA-W-54,351 & A; I/N Tek, a subsidiary of Ispat International NV and Nippon Steel and New Carlisle, IN

TA-W-54,274; The Boeing Co., Wichita Development and Modification Center, Integrated Defense Systems, Wichita, KS

TA-W-54,241; Siemens Dematic, Distribution and Industry Div., Grand Rapids, MI

TA-W-54,361; Kimberly Clark Corp., Kimtech Plant, Neenah, WI

TA-W-54,344; Screw Machine Specialties, Inc., Grand Haven, MI

TA-W-54,310; Intermet Havana Foundry, a div. of Intermet, Havana, IL

TA-W-54,385; TSS Dupont Holding, Inc., Providence, RI

TA-W-54,439; Sem-Pak Corp., T/A Meyer Packaging, including leased workers of Uni-Temp, Palmyra, PA

TA-W-54,469; St. John Knits, Inc., Van Nuys, CA

TA-W-54,438; Reichhold, Inc., Bridgeville, PA

TA-W-54,403; Missota Paper Co., LLC, Brainerd, MN

TA-W-54,336; Resolite, a div. of Stabilit America, Inc., Zelienople, PA

TA-W-54,151; Haworth, Inc., Comforto Div., including leased workers of Lincolnton Staffing and Kelly Services, Lincolnton, NC: All workers engaged in the assembly of office seating products are denied alternative trade adjustment assistance under section 246 of the Trade Act of 1974.

Affirmative Determinations for Alternative Trade Ajdustment Assistance

In order for the Division of Trade Adjustment Assistance to issued a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-54,538; Yorkshire Americas, Inc., Greensville, SC: March 17, 2003.

TA-W-54,615; PPG Industries, Inc., Automotive Glass Div. including leased workers of Affiliated Building Services, Berea, KY: March 23, 2003.

TA-W-54,429; Decorize, Inc., Springfield, MO: March 3, 2003.

TA-W-54,348; Werner Co., Anniston, AL: February 18, 2003.

TA-W-54,390; Gul Technologies, Raleigh, NC: March 1, 2003.

TA-W-54,407; CFM U.S. Corp., Huntington, IN: March 2, 2003.

TA-W-54,420; Consolidated Fabricators, Inc., a subsidiary of Global Power Equipment Group, including leased workers of The Agentry and Express Personnel Services, Auburn, MA: February 23, 2003.

TA-W-54,428; VF Playwear, Greensboro, NC: March 3, 2003.

TA-W-54,493; Burle Industries, Inc., Lancaster, PA: March 9, 2003.

TA-W-54,339; Active Wear, Inc., Martinsville, VA: February 17, 2003.

TA-W-54,556; Paragon Glass Works, Inc., Lewiston, ME: March 18, 2003.

TA-W-54,573; TI Automotive Systems, Warren, MI: March 23, 2003.

TA-W-54,399 & A; Western Geco Resources, Inc., Anchorage, AK and Deadhorse, AK: February 17, 2003.

TA-W-54,460; Ertex Knitting Co., Inc., Paterson, NJ: March 9, 2003.

TA-W-54,482; Umicore Optical Materials USA, Inc., Quapaw, OK: March 10, 2003.

TA-W-54,357; Solutia, Inc., Trenton, MI: January 26, 2003.

TA-W-54,360; Acme Packaging Corp., ITW Packaging Systems Div., New Britain, CT: February 23, 2003.

TA-W-54,528; Cerro Fabricated Products, Inc., Main Plant, a former div. of Cerro Metal Products, Brave, PA: March 16, 2003.

TA-W-54,608; Medsource Technologies, Inc., Newton Div., Newton, MA: March 22, 2003.

TA-W-54,671; Steelcase, Inc., New Paris, IN: April 5, 2003.

TA-W-54,405; Avondale Mills, Inc., Burnsville, NC: March 1, 2003.

TA-W-54,457; Protopac, Inc., Electronics Div., Watertown, CT: March 8, 2003.

TA-W-54,458; Rowe Pottery Works, Cambridge, WI: March 9, 2003.

TA-W-54,567 & A; Artisans, Inc., Glen Flora, WI and Wausau, WI: March 19, 2003.

TA-W-54,423; Takata Restraint Systems, Inc., a wholly owned subsidiary of TK Holdings, Inc., Cheraw Plant, Cheraw, SC: March 2, 2003.

TA-W-54,376; Lisbon Textile Prints, Inc., Lisbon, CT: February 5, 2003.

TA-W-54,384; Keeler Die Cast, Truth Hardware Div., including leased workers of RCM Technologies, Aerotek Commercial Staffing, Grand Rapids, MI: February 27, 2003.

TA-W-54,324; National Lamination Co., Des Plaines, IL: February 13, 2003.

TA-W-54,346; Meadwestvaco Corp., Forestry Div., Maine Region, Rumford, ME: February 9, 2003.

TA-W-54,352; Presto Products Co., Weyauwega Facility, a div. of Alcoa Consumer Products, Weyauwega, WI: February 20, 2003.

TA-W-54,364; Sandlapper Fabrics, Inc., Danbury, CT: February 25, 2003.

TA-W-54,539; Connor Carving and Turning Co., Inc., Thomasville, NC: March 17, 2003.

TA-W-54,543; Georgia Pacific, Consumer Products Div., Sandusky, OH: March 10j, 2003.

TA-W-54,583; Pasadena Paper Co., LP, Pasadena, TX: March 1, 2003.

TA-W-54,584; William M. Best Consulting Services, Workers at Gates Corp., Air Springs Div., Denver, CO: March 24, 2003.

TA-W-54,173; Lauri Toys, Inc., Avon, ME: January 26, 2003.

TA-W-54,302; Crescent, Inc., Niota, TN: January 23, 2003.

TA-W-54,530; Quality Consulting and Inspection Services, Inc., Workers at Gates Corp., Air Springs Div., Denver, CO: March 15, 2003.

TA-W-54,503; Amesbury Group, Inc., Textile Div., Statesville, NC: February 24, 2003.

TA-W-54,325; S.K. Williams Co, including leased workers from Seek, Cornwall, Staffing, Inc., and Instant Help, Wauwatosa, WI: February 18, 2003.

TA-W-54,404; Plains Cotton Cooperative Association, New Braunfels, TX: February 25, 2003.

TA-W-54,464; Western Region Div., a subsidiary of GL&V, Inc., Vancouver, WA: March 8, 2003.

TA-W-54,481; Sierra Pacific Industries, Susanville, CA: March 1, 2003.

TA-W-54,488; Fort Smith Rim & Bow Co., Fort Smith, AR: March 11, 2003.

TA-W-54,492; Regal Manufacturing Co., Inc., Hickory, NC: March 8, 2003.

TA-W-54,276; Adams Business Forms, a div. of Cardinal Brands, Inc., Topeka, KS: February 13, 2003.

TA-W-54,201; Avent, Inc., div. of Kimberly-Clark Corp., Holtom City, TX: February 2, 2003.

TA-W-54,315; Universal Stainless, Inc., a subsidiary of Leggett & Platt, Inc., including leased workers of Chase Staffing and Rivera Finance, Pineville, NC: February 10, 2003.

TA-W-54,358; Aero-Motive Co., Kalamazoo, MI: February 17, 2003.

TA-W-54,215 & A, B; Taylor Togs, Inc., Bakersville, NC, Taylorsville, NC, Micaville, NC: February 4, 2003.

TA-W-54,174; AEI Acquisitions, LLC, d/b/a Nexpak, Tucson, AZ: January 29, 2003.

TA-W-54,070 & A; Magruder Color Co., Inc., Bridgeview Div., Bridgeview, IL and Indol Carteret Div., Carteret, NJ: January 22, 2003.

TA-W-54,454; J.J. Mae, Inc., d/b/a Rainbeau, San Francisco, CA: March 5, 2003.

TA-W-54,486; Pasminco Clinch Valley Mine, Thorn Hill, TN: March 11, 2003.

TA-W-54,523; Camdett Corp., Camden, NJ: March 16, 2003.

TA-W-54,342; Aluminum Foundries, Inc., Winchester, IN: February 18, 2003.

TA-W-54,380; Senior Operations, Inc., Senior Flexonics Pathway Div., Oak Ridge Site, Oak Ridge, TN: February 26, 2003.

TA-W-54,422; Golden Star, Inc., Atchison, KS: March 2, 2003.

TA-W-54,231; 411, Warehouse Corp., a subsidiary of Arnav Industries, Inc., Madisonville, TN: September 11, 2003.

TA-W-54,304; F.E. Wood and Sons, Inc., East Baldwin, ME: January 28, 2003.

TA-W-54,290; Rubbermaid Cleaning, a div. of Rubbermaid Commercial Products, a div. of Newell-Rubbermaid, including leased workers of Kelly Services and Action Staffing Group, Greenville, NC: February 16, 2003.

TA-W-54,177; Amcast Industrial Corp., Richmond Indiana Plant, Richmond, IN: December 17, 2002.

TA-W-54,204; Missouri Steel Castings, including leased workers from Skillstaff, Employer Advantage and Moresource, Inc., Joplin, Missouri: February 5, 2003.

TA-W-54,433; Night Fashion, Inc., Los Angles, CA: February 26, 2003.

TA-W-54,443; Bloomsburg Mills, Inc., including leased workers of One Course Staffing Solutions, Bloomsburg, PA: March 22, 2004.

TA-W-54,450; Dekko Engineering, Lucas, IA: March 8, 2003.

TA-W-54,281; Chami Design, Inc., Tacoma, WA: February 12, 2003.

TA-W-54,295 & A, B, C; Sure Fit, Inc., (Marcon Blvd Facility), including leased workers of Centric Human Resources, General Temp Labor, CK Hobbie, Inc., AA Staffing, People Unlimited, ITH Staffing, and HTSS, Allentown, PA, (Industrial Blvd Facility), Allentown, PA, (Boulder Drive Facility), Breingsville, PA and New York, NY: February 26, 2003.

TA-W-54,237; Steelcase, Inc., Wood Div., Fletcher, NC: February 6, 2003.

TA-W-54,203 & A, B; Coats American, Inc., Watertown, CT, Bronx, NY and Corporate Headquarters, Charlotte, NC: February 3, 2003.

TA-W-54,127; Mid Atlantic of West Virginia, Ellenboro, WV: January 26, 2003.

TA-W-54,165; Goodman Equipment Corp., Bedford Park, IL: February 3, 2003.

TA-W-54,151; Haworth, Inc., Comforto Div., including leased workers of Lincolnton Staffing and Kelley Services, Lincolnton, NC, engaged in the production of office seating components who became totally or partially separated from employment on or after January 29, 2003.

I hereby certify that the aforementioned determinations were issued during the months of March and April 2004. Copies of these determinations are available for inspection in Room C-5311, U.S. Department of Labor, 200 Constitution Avenue, NW., Washington, DC 20210 during normal business hours or will be mailed to persons who write to the above address.

Dated: May 12, 2004.
Timothy Sullivan,
Director, Division of Trade Adjustment Assistance.

[FR Doc. 04-11622 Filed 5-21-04; 8:45 am]

BILLING CODE 4510-30-P